DEPARTMENT OF ENERGY

Amended Notice of Intent To Modify the Scope of the Environmental Impact Statement for the Abengoa Biorefinery Project Near Hugoton, KS

AGENCY: Office of Energy Efficiency and Renewable Energy, U.S. Department of Energy.

ACTION: Amended notice of intent.

SUMMARY: The U.S. Department of Energy (DOE or the Department) is providing this Amended Notice of Intent to announce its intent to modify the scope of an ongoing environmental impact statement in which DOE is assessing the potential environmental impacts of a project proposed by Abengoa Bioenergy Biomass of Kansas, LLC (ABBK), to construct and operate a biomass-to-ethanol and energy facility near Hugoton, Kansas (Abengoa Biorefinery Project). DOE issued its original Notice of Intent on Aug. 25, 2008, for the proposed construction and operation of a biomass-to-ethanol and energy facility that was planned to be integrated with a traditional grain-to-ethanol production facility on the same site.

DATES: The public scoping period begins today, and will end on May 29, 2009. DOE will consider all comments received or postmarked by May 29, 2009. DOE will consider late comments to the extent practicable. DOE will hold a public scoping meeting in Memorial Hall at the Stevens County Courthouse, 200 East 6th St., Hugoton, Kansas 67951-2606, on May 19, 2009, from 6 p.m. to 8 p.m. DOE will give equal weight to written and oral comments.

ADDRESSES: Please direct written comments on the scope of the EIS to Ms. Kristin Kerwin at the U.S. Department of Energy, Golden Field Office, 1617 Cole Boulevard, Golden, Colorado, 80401. You also may contact Ms. Kerwin by telephone at 303-275-4968, by facsimile at 303-275-4790, or by e-mail at kristin.kerwin@go.doe.gov. Please label envelopes and the subject line of e-mails with the heading “Abengoa EIS Scoping Comments.”

FOR FURTHER INFORMATION CONTACT: For information on the proposed project, information on how to comment, or to receive a copy of the Draft EIS when it is issued, contact Ms. Kristin Kerwin by any of the means described above under the “ADDRESSES” section.

For further information on the DOE Office of Energy Efficiency and Renewable Energy, Integrated Biorefinery Program, contact: Ms. Valri Lightner, Biomass Program Manager (Acting), U.S. Department of Energy, 1000 Independence Avenue, SW., EE-2E, Washington, DC 20585; telephone: 202-586-0937; facsimile: 202-586-1640; e-mail: eere_biomass@ee.doe.gov.

For further information on DOE's Loan Guarantee Program, contact: Mr. Daniel Tobin, Loan Guarantee Officer, U.S. Department of Energy, 1000 Independence Avenue, SW., CF-1.3, Washington, DC 20585; telephone: 202-586-1940; facsimile: 202-586-4052; e-mail: daniel.tobin@hq.doe.gov.

For further information on the U.S. Department of Agriculture Rural Business-Cooperative Service Biorefinery Assistance Program contact: Energy Branch, Attention: Biorefinery Assistance Program, 1400 Independence Avenue, SW., Mail Stop 3225, Washington, DC 20250-3225; telephone: 202-720-1400.

For general information regarding the DOE National Environmental Policy Act (NEPA) process contact: Ms. Carol M. Borgstrom, Director, Office of NEPA Policy and Compliance, U.S. Department of Energy, 1000 Independence Avenue, SW., GC-20, Washington, DC 20585; e-mail AskNEPA@hq.doe.gov; telephone 202-586-4600; or leave a message at 1-800-472-2756.

SUPPLEMENTARY INFORMATION: Background: In September 2007, DOE granted an initial award to ABBK to advance the conceptual design, initiate the permitting process, and support an environmental review under NEPA for ABBK's proposed biomass-to-ethanol and energy facility near Hugoton, Kansas, pursuant to section 932 of EPAct 2005. DOE requires completion of the design, permitting, and environmental review obligations prior to deciding whether to co-fund the construction and operation phase of the project. The total anticipated cost of this initial work was $37.5 million of which DOE funded 40 percent ($15 million) and ABBK provided 60 percent ($22.5 million). For additional information on section 932 of EPAct 2005 and details regarding DOE's competitive solicitation process for commercial-scale integrated biorefineries, refer to the original NOI, (73 FR 50001 (Aug. 25, 2008)).

In DOE's original NOI, the Department announced its intent to prepare an EIS for the Abengoa Biorefinery Project. DOE indicated that it was proposing to negotiate a second financial assistance agreement for approximately $61 million for the final design, construction, and operation of the biomass-to-ethanol and energy facility. This facility was planned to be integrated with a traditional grain-to-ethanol production facility, and the grain-to-ethanol facility was to be constructed and operated using private funds.

In January 2009, because of economic viability concerns and anticipated market conditions, ABBK notified DOE that it no longer was considering the construction and operation of the traditional grain-to-ethanol facility, and, further, was proposing to modify its biomass-to-ethanol and energy production facility by including a steam-driven turbine to generate electricity that would be supplied to the regional power grid. In addition, ABBK stated its intent to solicit loan guarantees from the DOE Loan Guarantee Program pursuant to Title XVII of EPAct 2005 and from the USDA RBC Biorefinery Assistance Program pursuant to section 9003 of the 2008 Farm Bill.

EPAct 2005 (Title XVII) authorizes the Department to issue loan guarantees to eligible projects that “avoid, reduce, or sequester air pollutants or anthropogenic emissions of greenhouse gases,” and “employ new or significantly improved technologies as compared to commercial technologies in service in the United States at the time the guarantee is issued.” ABBK submitted a DOE loan guarantee application on February 26, 2009.

Section 9003 of the 2008 Farm Bill is intended to assist in the development and construction of commercial-scale biorefineries and the retrofitting of existing facilities using eligible technology for the development of advanced biofuels. ABBK has not submitted an application to the USDA RBC Biorefinery Assistance Program for a loan guarantee under section 9003 of the 2008 Farm Bill. After the receipt and review of an application, the RBC may decide to provide a loan guarantee to ABBK. The RBC would only do so if the application is for an eligible project that provides for the development, construction, and retrofitting of commercial biorefineries using eligible technology.

Previous Public Scoping Comments: The Department received 14 scoping comments during the public scoping period that ended on October 9, 2008, and received no comments after that date. Commenters expressed support for the proposed biorefinery project, suggested there would be no adverse environmental impacts from constructing and operating the biorefinery, requested information, or asked that DOE include certain analyses in the EIS. For example, the U.S. Department of Agriculture Natural Resources Conservation Service requested an analysis of the potential impacts from biomass production and harvesting on soils, surface and groundwater quality and quantity, air quality, and upland wildlife habitat. DOE will address these comments, as well as those submitted during the public comment period for this Amended NOI, in the Abengoa Biorefinery EIS.

Proposed Action: DOE is proposing to provide cost-shared Federal funding, only potentially, to issue a loan guarantee for the Abengoa Biorefinery Project. DOE would provide approximately $61 million in Federal funding pursuant to section 932 of EPAct 2005 to ABBK for the final design, construction, and initial operation of a commercial-scale biomass-to-ethanol and energy production facility near Hugoton, Kansas. The total estimated cost (beyond the initial award) for final design, construction, and initial operation of the facility with the new scope is approximately $290 million. DOE may also provide a loan guarantee pursuant to Title XVII of EPAct 2005.¹

¹ The amount requested for the loan guarantee is not being disclosed at this time because it is business sensitive. Moreover, should DOE approve a loan guarantee, that amount may differ from the original request.

The biomass-to-ethanol facility would use an enzymatic hydrolysis process for converting biomass feedstocks to ethanol and co-products, and a gasification technology to convert biomass to synthesis gas. The synthesis gas would be used to fire a gas-powered boiler to generate steam that ultimately would be used to produce electricity. Biomass feedstock would be supplied from waste products from the production of crops produced near the facility, and may include sorghum stubble, corn stover, switchgrass, and other opportunity feedstocks that are available.

The estimated biomass usage (dry metric tons per day) and output of ethanol (million gallons per year) for the biomass-to-ethanol facility, the project site features and location, and infrastructure requirements would remain the same as outlined in the original NOI. However, electricity produced by the steam-powered turbine would be sold to Pioneer Electric Cooperative, Inc., for supply to the regional power grid. As discussed in the original NOI, the proposed project would require a new transmission line to bring electricity to the site. The power produced by the steam-powered turbine would be supplied back to the regional power grid via this same new transmission line. The line would run from the proposed project location to the east side of Road 11, then several miles north to the existing substation.

In addition to processing an estimated 400 dry metric tons per day of biomass for the biomass-to-ethanol facility (to produce approximately 12 million gallons per year of denatured ethanol), the synthesis gas production facility would process an estimated 300 dry metric tons per day of biomass, and the electric generation portion of the facility would process and estimated 275 to 700 dry metric tons per day of biomass. The entire facility would process approximately 975 to 1400 dry metric tons per day of biomass.

Alternatives: The Department proposes to analyze the following alternatives in detail in the EIS: (1) The Abengoa Biorefinery Project as proposed by ABBK; (2) the Abengoa Biorefinery Project as proposed by ABBK without supplying electricity to the regional power grid; and (3) the No Action alternative, which assumes that none of the proposed facilities is constructed.

In addition, DOE plans to evaluate ranges of options for implementing the proposed project, including onsite versus offsite storage of feedstock; wet (unprotected or uncovered) versus dry (protected or covered) storage of feedstock; and smaller or larger boiler sizes. DOE will also explore potential mitigation measures that could be implemented for any of the alternatives.

Preliminary Identification of Environmental Issues: One purpose of this Amended NOI is to solicit comments and suggestions for DOE to consider in preparing the EIS. As background for public comment, the Department tentatively has identified the following list of potential environmental issues for analysis. This list identifies resource areas that may be affected by construction and operation of the proposed Abengoa Biorefinery Project and that DOE plans to analyze in the EIS. This list is not intended to be all-inclusive or to imply any predetermination of impacts. DOE welcomes comments on these resource areas and other suggestions on the scope of the EIS.

1. Water resources: potential impacts on surface and groundwater resources and water quality, including effects of water usage, wastewater management, and storm water management.

2. Wetlands: potential impacts on apparent isolated wetlands at the project site.

3. Utility and transportation infrastructure: requirements for delivery of feedstocks and process chemicals to the facility and distribution of products from the facility to the marketplace.

4. Land use: changes in land use, including the proposed site and the geographical area that will provide feedstock to the proposed facility.

5. Local and regional air quality: changes in air quality.

6. Cultural resources: including potential effects on historic and archaeological resources and American Indian tribal resources.

7. Ecological resources: terrestrial and aquatic plants and animals including state and Federally-listed threatened and endangered species and other protected resources.

8. Health and safety: including construction-related safety and process-related safety associated with handling and management of process chemicals.

9. Noise: potential impacts resulting from construction and operation of the proposed plant and from transportation of feedstocks, process materials, and plant byproducts.

10. Socioeconomics: potential socioeconomic impacts of plant construction and operation, including effects on public services and infrastructure resulting from the influx of construction personnel and plant operating staff, and environmental justice issues.

11. Aesthetic and scenic resources: potential visual effects associated with plant structures and operations.

12. Cumulative impacts that result from the incremental impacts of the proposed plant when added to the other past, present, and reasonably foreseeable future activities. This may include potential impacts resulting from widespread replication of this type of technology, and from traditional grain-to-ethanol production facilities.

13. Global climate change: potential greenhouse gas emissions that may result from this project.

Public Scoping Process: Interested agencies, organizations, American Indian tribes, and members of the public are encouraged to submit comments or suggestions concerning the proposed content of the Abengoa Biorefinery EIS, including the range of reasonable alternatives and the potential environmental impacts. DOE invites written and oral comments and suggestions at the public scoping meeting. The public scoping period will be open until May 29, 2009.

Please send written comments to Ms. Kristin Kerwin, as described above under the “ADDRESSES” section. The public scoping meeting will be held at the location, date, and time listed in the “DATES” and “ADDRESSES” sections of this Amended NOI. This meeting will be informal. A presiding officer designated by DOE will establish procedures governing the conduct of the meeting, and DOE will provide an overview of the proposed Abengoa Biorefinery Project. DOE will not conduct the meeting as an evidentiary hearing, and those who choose to make statements will not be cross-examined by other speakers. However, DOE representatives may ask speakers questions to help ensure that DOE understands their comments or suggestions.

For advanced registration to speak at the meeting, please contact Ms. Kristin Kerwin via telephone, mail, fax, or e-mail as listed in the “ADDRESSES” section. For those persons who wish to speak but do not register in advance, DOE will provide an opportunity to speak after previously scheduled speakers have spoken, as time allows. To ensure that everyone who wishes to speak has a chance to do so, DOE will allot at least five minutes to each speaker. Persons wishing to speak on behalf of an organization should identify that organization when they request to speak.

DOE will retain a transcript of the public scoping meeting and will make the transcript available to the public for review via the Golden Field Office Online Public Reading Room at: http://www.eere.energy.gov/golden/Reading_Room.aspx. DOE will make available additional copies of the public scoping meeting transcripts during business hours at the following location: Stevens County Library, 500 S. Monroe Street, Hugoton, Kansas 67951.

Schedule: DOE expects to issue the Draft EIS in summer 2009 and will announce the availability of the Draft EIS in the Federal Register and local media. DOE will consider comments on the Draft EIS in preparing the Final EIS.

Interested parties who do not wish to submit comments at this time, but who would like to receive a copy of the Draft EIS, should contact Kristin Kerwin, as provided in the “ADDRESSES” section of this notice.

Other Agency Involvement: The Department has invited the U.S. Department of Agriculture to become a cooperating agency in the preparation of this EIS. DOE anticipates that the U.S. Department of Agriculture Rural Business-Cooperative Service will assist with the Department's review process and adopt the Abengoa Biorefinery EIS, to the extent practicable, to satisfy that agency's NEPA-related requirements and support its decisions under section 9003 of the 2008 Farm Bill.

Issued in Washington, DC, on April 22, 2009.
Steven G. Chalk,
Principal Deputy Assistant Secretary, Energy Efficiency and Renewable Energy.

[FR Doc. E9-9716 Filed 4-28-09; 8:45 am]

BILLING CODE 6450-01-P